ENVIRONMENTAL PROTECTION AGENCY

[FRL-8306-3]

Reissuance of General NPDES Permit (GP) for Alaskan Small Suction Dredging (Permit Number AKG-37-5000)

AGENCY: Environmental Protection Agency (EPA).

ACTION: Final notice of reissuance of a general permit.

SUMMARY: On June 4, 2007, a general permit regulating the activities of small suction dredge mining for gold placer mining operations in the State of Alaska expires. On January 16, 2007, EPA proposed to reissue this GP. There was a 45 day comment period.

On April 4, 2007, the Department of Natural Resources, Office of Project Management and Permitting agreed with EPA's consistency determination under the Alaska Coastal Management Act. The Department of Environmental Conservation certified the GP under section 401 of the Clean Water Act on April 16, 2007. EPA received several comments on the GP and has prepared a Response to Comments. EPA has determined that each facility submitting a new Notice of Intent (NOI) prior to the expiration date of the current permit will be automatically covered by the reissued GP.

DATES: The GP will be effective on June 5, 2007. Since coverage between the current GP and the reissued GP is continuous, there is no administrative extension of coverage under this GP.

ADDRESSES: Copies of the GP and the Response to Comments are available upon request. Written requests may be submitted to EPA Region 10, 1200 Sixth Avenue OWW-130, Seattle, WA 98101. Electronic requests may be mailed to: washington.audrey@epa.gov or godsey.cindi@epa.gov.

FOR FURTHER INFORMATION CONTACT: The GP, Fact Sheet, and Response to Comments may be found on the Region 10 Web site at http://www.epa.gov/r10earth/waterpermits.htm (click on general permits then on placer mining). Telephone requests for copies may be made to Audrey Washington at (206) 553-0523 or to Cindi Godsey at (907) 271-6561.

SUPPLEMENTARY INFORMATION: Executive Order 12866: The Office of Management and Budget has exempted this action from the review requirements of Executive Order 12866 pursuant to Section 6 of that order.

Regulatory Flexibility Act: After review of the facts presented in the notice printed above, I hereby certify pursuant to the provision of 5 U.S.C. 605(b) that the reissuance of this general permit will not have a significant impact on a substantial number of small entities. Moreover, the permit reduces a significant administrative burden on regulated sources.

Dated: April 19, 2007.
Michael F. Gearheard,
Director, Office of Water & Watersheds, Region 10.

[FR Doc. E7-7999 Filed 4-25-07; 8:45 am]

BILLING CODE 6560-50-P